DEPARTMENT OF LABOR

Mine Safety and Health Administration

Proposed Information Collection Request Submitted for Public Comment and Recommendations; Records of All Certified and Qualified Persons; and Man Hoist Operators Physical Fitness

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

Currently, the Mine Safety and Health Administration (MSHA) is soliciting comments concerning the proposed extension of the information collection related to the Record of all Certified and Qualified Persons; and Man Hoist Operators Physical Fitness. MSHA is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submissions of responses.

A copy of the proposed information collection request can be obtained by contacting the employee listed below in the For Further Information Contact section of this notice.

DATES: Submit comments on or before April 23, 2002.

ADDRESSES: Send comments to David L. Meyer, Director, Office of Administration and Management, 4015 Wilson Boulevard, Room 615, Arlington, VA 22203-1984. Commenters are encouraged to send their comments on a computer disk, or via Internet e-mail to Meyer-David@msha.gov, along with an original printed copy. Mr. Meyer can be reached at (703) 235-1383 (voice), or (703) 235-1563 (facsimile).

FOR FURTHER INFORMATION CONTACT: Charlene N. Barnard, Regulatory Specialist, Records Management Division, U.S. Department of Labor, Mine Safety and Health Administration, Room 725, 4015 Wilson Boulevard, Arlington, VA 22203-1984. Ms. Barnard can be reached at barnard-charlene@msha.gov (Internet e-mail), (703) 235-1470 (voice) or (703) 235-1563 (facsimile).

SUPPLEMENTARY INFORMATION:

I. Background

30 CFR Sections 75.155, 75.159, 75.160, 75.161, 77.105, 77.107, 77.107-1, and 77.106. Sections 75.155 and 77.105 explain the qualifications to be a qualified hoisting engineer or a qualified hoist man on a slope or shaft sinking operation. These requirements are necessary so that it can be determined who is qualified to perform these tasks and how they can become qualified.

Sections 75.159 and 77.106 requires the operator of a mine to maintain a list of all certified and qualified persons designated to perform certain duties around a mine. This list must be posted.

II. Current Actions

30 CFR 75.155, 75.159, 75.161, and 77.105, 77,106, and 77.107-1, require coal operators to maintain a list of persons who are certified and those who are qualified to perform duties which require specialized expertise at underground and surface coal mines, i.e., conduct test for methane and oxygen deficiency, conduct tests of air flow, perform electrical work, repair energized surface high-voltage lines, and perform duties of hoisting engineer. The regulations also require the mine operator to have an approved training plan so that the qualified and certified people can properly perform their tasks. The recorded information is necessary to ensure that only persons who are properly trained and have the required number of years of experience are permitted to perform these duties. MSHA does not specify a format for the recordkeeping; however, it normally consists of the names of the certified and qualified person listed in two columns on a sheet of paper. One column is for certified persons and the other is for qualified persons.

Type of Review: Extension.

Agency: Mine Safety and Health Administration.

Title: Records of All Certified And Qualified Persons; and Man Hoist Operators Physical Fitness.

OMB Number: 1219-0127.

Recordkeeping: One year.

Affected Public: Business or other for-profit.

Cite/reference | Total respondents | Frequency | Total responses | Average time per response | Burden
75.155 | 0 | 0 | 0 | 0 | 0
75.159 | 877 | 4 | 3,508 | ¹ 5 | 291
75.161 | 877 | 1 | 877 | ² 8 | 7,016
77.105 | 0 | 0 | 0 | 0 | 0
77.106 | 1,488 | 4 | 5,952 | ¹ 5 | 494
77.107-1 | 1,488 | 1 | 1,488 | ² 8 | 11,904
Totals | 4,730 | 10 | 11,825 | ² 16.66 | 19,705
¹ Minutes.
² Hours.

Total Burden Cost (capital/startup): 0.

Total Burden Cost (operating/maintaining): $0.

Comments submitted in response to this notice will be summarized and/or included in the request for Office of Management and Budget approval of the information collection request; they will also become a matter of public record.

Dated: February 18, 2002.
David L. Meyer,
Director, Office of Administration, and Management.

[FR Doc. 02-4309 Filed 2-21-02; 8:45 am]

BILLING CODE 4510-43-M